DEPARTMENT OF COMMERCE

Bureau of the Census

[Docket Number 0909301330-91331-01]

Annual Surveys in the Manufacturing Area

AGENCY: Bureau of the Census, Department of Commerce.

ACTION: Notice of determination.

SUMMARY: The Bureau of the Census (Census Bureau) is conducting the 2009 Annual Surveys in the Manufacturing Area. The 2009 Annual Surveys consist of the Current Industrial Report surveys, the Annual Survey of Manufactures, the Business Research & Development (R&D) and Innovation Survey, and the Manufacturers' Unfilled Orders Survey. The annual data collected from these surveys are needed to aid the efficient performance of essential governmental functions and have significant application to the needs of the public and industry. The data derived from these surveys, most of which have been conducted for many years, are not publicly available from nongovernmental or other governmental sources.

ADDRESSES: The Census Bureau will furnish report forms to organizations included in each survey. Additional copies of the surveys are available upon written request to the Director, U.S. Census Bureau Washington, DC 20233-0101.

FOR FURTHER INFORMATION CONTACT: Thomas E. Zabelsky, Chief, Manufacturing and Construction Division, at (301) 763-4598 or by e-mail at thomas.e.zabelsky@census.gov.

SUPPLEMENTARY INFORMATION: Title 13, United States Code (U.S.C.), Sections 61, 81, 131, 182, 193, 224, and 225 authorizes the Census Bureau to conduct mandatory surveys necessary to furnish current data on the subjects covered by the major censuses. These surveys provide continuing and timely national statistical data on manufacturing for the period between economic censuses. The data collected in the surveys will be within the general scope and nature of those inquiries covered in the economic census. The next economic census will be conducted for the year 2012.

Current Industrial Reports

Most of the following commodity or product surveys provide data on shipments or production, stocks, unfilled orders, orders booked, consumption, and similar information. Survey questionnaires will be mailed to all, or a sample of establishments engaged in the production of the products covered by the following list of surveys:

Survey Title
MA311D | Confectionery.
MA314Q | Carpets and Rugs.
MA321T | Lumber Production and Mill Stocks.
MA325F | Paints and Allied Products.
MA325G | Pharmaceutical Preparations, except Biologicals.
MA327C | Refractories.
MA327E | Consumer, Scientific, Technical, and Industrial Glassware.
MA331B | Steel Mill Products.
MA332Q | Antifriction Bearings.
MA333A | Farm Machinery and Lawn and Garden Equipment.
MA333D | Construction Machinery.
MA333F | Mining Machinery.
MA333M | Refrigeration, Air-conditioning, and Warm Air Heating Equipment.
MA333N | Fluid Power Products for Motion Control (Including Aerospace).
MA333P | Pumps and Compressors.
MA334A | Analytical and Biomedical Instruments.
MA334C | Control Instruments and Systems.
MA334D | Defense, Navigational and Aerospace Electronics.
MA334M | Consumer Electronics.
MA334Q | Electronics Components.
MA334T | Meters and Test Devices.
MA335E | Electric Housewares and Fans.
MA335F | Major Household Appliances.
MA335J | Insulated Wire and Cable.
MA335K | Wiring Devices and Supplies.
MA336G | Aerospace Industry (Orders, Sales and Backlog).

The Census Bureau conducts an annual counterpart for the following monthly and quarterly Current Industrial Report (CIR) surveys and the annual counterpart will cover only those establishments that are not canvassed, or do not report in the more frequent surveys. There is no duplication in reporting by establishments participating in the counterpart survey. The content of these annual counterpart surveys are identical to that of the more frequently monthly and quarterly CIR surveys listed below:

Survey Title
M311C | Corn (Wet & Dry Producers of Ethanol).
M311H | Animal & Vegetable Fats and Oil (Warehouse Stocks).
M311J | Oilseeds, Beans, and Nuts (Primary Producers).
M311L | Fats and Oils.
M311M | Animal & Vegetable Fats and Oil (Consumption & Stocks).
M311N | Animal & Vegetable Fats and Oil (Production, Consumption, & Stocks).
M313N | Cotton and Raw Linters in Public Storage.
M313P | Consumption on the Cotton System and Stocks.
M336G | New Civil Aircraft and Aircraft Engines.
MQ311A | Flour Milling Products.
MQ313A | Textiles.
MQ315A | Apparel.
MQ315B | Socks Production.
MQ325A | Inorganic Chemicals.
MQ325B | Fertilizers and Related Chemicals.
MQ325F | Paint, Varnish, and Lacquer.
MQ327D | Clay Construction Products.
MQ333W | Metalworking Machinery.
MQ334P | Telecommunications.
MQ334R | Computers and Peripheral Equipment.

Annual Survey of Manufactures

The Annual Survey of Manufactures collects industry statistics, such as total value of shipments, employment, payroll, workers' hours, inventories, capital expenditures, cost of materials consumed, supplemental labor costs, etc. This is a sample survey covering all manufacturing industries including data on plants under construction but not yet in operation.

Business R&D and Innovation Survey

The Business R&D and Innovation Survey (BRDIS) measures annual spending on R&D and innovative activities by U.S. businesses. This survey replaces the Survey of Industrial Research and Development in 2008. The BRDIS collects global as well as domestic R&D spending, more detailed information about the R&D workforce, and information regarding innovation and intellectual property. The Census Bureau collects and compiles this information in accordance with a joint project agreement between the National Science Foundation (NSF) and the Census Bureau. The NSF publishes the results in its publication series. Pursuant to title 13 of the U.S.C., this is a mandatory data collection.

Manufacturers' Unfilled Orders Survey

The Manufacturers' Unfilled Orders Survey will collect data on manufacturing sales and unfilled orders in order to provide annual benchmarks for unfilled orders for the monthly Manufacturers' Shipments, Inventories, and Orders (M3) survey. The annual benchmarks for the shipments and inventory data in the Manufacturers' Unfilled Orders Survey are provided by the Annual Survey of Manufactures (ASM). The Manufacturers' Unfilled Orders Survey data will also be used by the Census Bureau to determine whether it is necessary to collect unfilled orders data for specific industries on a monthly basis; some industries are not requested to provide unfilled orders data on the M3 Survey.

Notwithstanding any other provision of law, no person is required to respond to, nor shall a person be subject to a penalty for failure to comply with, a collection of information subject to the requirements of the Paperwork Reduction Act (PRA) unless that collection of information displays a current, valid Office of Management and Budget (OMB) control number. In accordance with the PRA, 44 U.S.C. 3501-3520, the OMB approved the 2008 Annual Surveys under the following OMB control numbers: Current Industrial Reports—0607-0476; Annual Survey of Manufactures—0607-0449, Business R&D and Innovation Survey—0607-0912; and Manufacturers' Unfilled Orders Survey—0607-0561.

Based upon the foregoing, I have directed that the Annual Surveys in the Manufacturing Area be conducted for the purpose of collecting these data.

Dated: November 6, 2009.
Robert M. Groves,
Director, Bureau of the Census.

[FR Doc. E9-27397 Filed 11-13-09; 8:45 am]

BILLING CODE 3510-07-P